NATIONAL AERONAUTICS AND SPACE ADMINISTRATION

[Notice: (22-012)]

Heliophysics Advisory Committee; Space Weather Council; Meeting

AGENCY: National Aeronautics and Space Administration.

ACTION: Notice of meeting.

SUMMARY: In accordance with the Federal Advisory Committee Act, as amended, the National Aeronautics and Space Administration (NASA) announces a meeting of the Space Weather Council (SWC). The SWC is a subcommittee of the Heliophysics Advisory Committee, which functions in an advisory capacity to the Director, Heliophysics Division, in the NASA Science Mission Directorate. The meeting will be held for the purpose of soliciting, from the science community and other persons, scientific and technical information relevant to program planning.

DATES: Wednesday, March 2, 2022, 12:00 p.m. to 3:00 p.m. Eastern Time.

ADDRESSES: Meeting will be virtual only. See dial-in information below under SUPPLEMENTARY INFORMATION.

FOR FURTHER INFORMATION CONTACT: Ms. Karshelia Kinard, Science Mission Directorate, NASA Headquarters, Washington, DC 20546, (202) 358-2355 or karshelia.kinard@nasa.gov.

SUPPLEMENTARY INFORMATION: This meeting will be available telephonically and via WebEx. You must use a touch-tone phone to participate in this meeting. Any interested person may dial the USA toll free conference call number 1-877-939-1570 or toll number 1-210-234-0110, participant code 9775739, March 2, to participate in this meeting by telephone. The WebEx link is https://nasa.webex.com/; the meeting number is 2761 914 7537; the password is PkPJdEV@334 (case sensitive).

The agenda for the meeting includes the following topics:

• Introduction of the SWC and its members

• Overview of NASA Heliophysics Division and its space weather activities

• Discussion of SWC future advisory topics and activities

Carol Hamilton,
Advisory Committee Management Officer (Acting), National Aeronautics and Space Administration.

[FR Doc. 2022-03210 Filed 2-14-22; 8:45 am]

BILLING CODE 7510-13-P